DEPARTMENT OF DEFENSE

GENERAL SERVICES ADMINISTRATION

NATIONAL AERONAUTICS AND SPACE ADMINISTRATION

48 CFR Parts 1 and 52

[FAC 2005-58; Item IV; Docket 2012-0079; Sequence 2]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes.

DATES: Effective Date: April 18, 2012.

FOR FURTHER INFORMATION CONTACT: The Regulatory Secretariat, 1275 First Street NE., 7th Floor, Washington, DC 20417, 202-501-4755, for information pertaining to status or publication schedules. Please cite FAC 2005-58, Technical Amendments.

SUPPLEMENTARY INFORMATION: In order to update certain elements in 48 CFR parts 1 and 52, this document makes editorial changes to the FAR.

List of Subjects in 48 CFR Parts 1 and 52

Government procurement.

Dated: April 11, 2012.
Laura Auletta,
Director, Office of Governmentwide Acquisition Policy, Office of Acquisition Policy, Office of Governmentwide Policy.

Therefore, DoD, GSA, and NASA amend 48 CFR parts 1 and 52 as set forth below:

1. The authority citation for 48 CFR parts 1 and 52 continues to read as follows:

Authority: 40 U.S.C. 121(c); 10 U.S.C. chapter 137; and 42 U.S.C. 2473(c).

PART 1—FEDERAL ACQUISITION REGULATIONS SYSTEM

2. Amend section 1.201-1 by revising paragraph (c) to read as follows:

1.201-1 The two councils.

* * * * *

(c) The Director of the DAR Council shall be the representative of the Secretary of Defense. The operation of the DAR Council will be as prescribed by the Secretary of Defense. Membership shall include representatives of the military departments, the Defense Logistics Agency, the Defense Contract Management Agency, and the National Aeronautics and Space Administration.

* * * * *

PART 52—SOLICITATION PROVISIONS AND CONTRACT CLAUSES

52.212-5 [Amended]

2. Amend section 52.212-5 by removing from paragraph (b)(7) “(Jan 2012)” and adding “(Feb 2012)” in its place; and removing from paragraph (b)(23) “(Apr 2009)” and adding “(Apr 2012)” in its place.

3. Amend section 52.219-28 by revising the date of the clause, and removing from paragraph (c) “http://www.sba.gov/services/contractingopportunities/sizestandardstopics/” and adding “http://www.sba.gov/content/table-small-business-size-standards” in its place.

The revised text reads as follows:

52.219-28 Post-Award Small Business Program Rerepresentation.

* * * * *

Post-Award Small Business Program Rerepresentation (Apr 2012)

* * * * *

[FR Doc. 2012-9206 Filed 4-17-12; 8:45 am]

BILLING CODE 6820-EP-P